ENVIRONMENTAL PROTECTION AGENCY

[EPA-HQ-OAR-2022-0449; FRL 10095-03-OAR]

Proposed Information Collection Request; Comment Request; GreenChill Advanced Refrigeration Partnership (Revision); Correction and Extension of Comment Period

AGENCY: Environmental Protection Agency (EPA).

ACTION: Notice; correction and extension of comment period.

SUMMARY: The U.S. Environmental Protection Agency (EPA) is correcting the Docket ID number under the ADDRESSES section of the Federal Register notice, which was published on October 16, 2024. This correction is associated with an information collection request (ICR), “GreenChill Advanced Refrigeration Partnership (Revision)” (EPA ICR No. 2349.03, OMB Control No. 2060-0702). Due to the incorrect Docket ID number in the previous notice, EPA is extending the comment period by 15 days to December 31, 2024.

DATES: The comment period has been extended until December 31, 2024.

FOR FURTHER INFORMATION CONTACT: Annie Kee, Stratospheric Protection Division—Office of Air and Radiation, (3204A), Environmental Protection Agency, 1200 Pennsylvania Ave. NW, Washington, DC 20460; telephone number: (202) 564-2056; email address: kee.annie@epa.gov.

SUPPLEMENTARY INFORMATION:

Correction

In the Federal Register of October 16, 2024, in FR Doc. 2024-23835, on page 83495, in the second column under the ADDRESSES section, correct the Docket ID No. from “EPA-HQ-QAR-2022-0449” to “EPA-HQ-OAR-2022-0449”.

Cynthia A. Newberg,
Director, Stratospheric Protection Division.

[FR Doc. 2024-25217 Filed 10-29-24; 8:45 am]

BILLING CODE 6560-50-P